DEPARTMENT OF STATE

[Public Notice: 10978]

U.S. Advisory Commission on Public Diplomacy; Notice of Meeting

The U.S. Advisory Commission on Public Diplomacy will hold a public meeting from 10:00 a.m. until 12:00 p.m., Thursday, January 23, 2020, at the U.S. Capital Visitor Center in Room SVC 203-02 (First St NE, Washington, DC 20515). The focus of the meeting will be the presentation of the 2019 Comprehensive Annual Report on Public Diplomacy and International Broadcasting. The meeting will also feature a panel of experts on public diplomacy programs in the field.

This meeting is open to the public, including the media and members and staff of governmental and non-governmental organizations. Any requests for a reasonable accommodation should be sent by email to Kristy Zamary at ZamaryKK@state.gov by 5:00 p.m. on Thursday, January 16, 2020. Attendees should plan to arrive for the meeting by 9:45 a.m. to allow for a prompt start.

The U.S. Advisory Commission on Public Diplomacy appraises U.S. government activities intended to understand, inform, and influence foreign publics. The Advisory Commission may conduct studies, inquiries, and meetings, as it deems necessary. It may assemble and disseminate information and issue reports and other publications, subject to the approval of the Chairperson, in consultation with the Executive Director. The Advisory Commission may undertake foreign travel in pursuit of its studies and coordinate, sponsor, or oversee projects, studies, events, or other activities that it deems desirable and necessary in fulfilling its functions.

For more information on the U.S. Advisory Commission on Public Diplomacy, please visit https://www.state.gov/bureaus-offices/under-secretary-for-public-diplomacy-and-public-affairs/united-states-advisory-commission-on-public-diplomacy/. For more information on the upcoming public meeting, contact the Commission's Executive Director, Vivian S. Walker, at WalkerVS@state.gov or Senior Advisor, Shawn Baxter, at BaxterGS@state.gov.

Vivian S. Walker,
Executive Director, U.S. Advisory Commission on Public Diplomacy, Department of State.

[FR Doc. 2019-27758 Filed 12-23-19; 8:45 am]

BILLING CODE 4710-45-P